DEPARTMENT OF COMMERCE

Foreign-Trade Zones Board

[B-03-2016]

Foreign-Trade Zone 30—Salt Lake City, Utah; Application for Subzone, Cabela's Inc.; Tooele, Utah

An application has been submitted to the Foreign-Trade Zones (FTZ) Board by the Salt Lake City Corporation, grantee of FTZ 30, requesting subzone status for the facility of Cabela's Inc., located in Tooele, Utah. The application was submitted pursuant to the provisions of the Foreign-Trade Zones Act, as amended (19 U.S.C. 81a-81u), and the regulations of the FTZ Board (15 CFR part 400). It was formally docketed on January 20, 2016.

The proposed subzone (32.4 acres) is located at 2000 West Cabela's Way, Tooele, Utah. No authorization for production activity has been requested at this time.

In accordance with the FTZ Board's regulations, Christopher Kemp of the FTZ Staff is designated examiner to review the application and make recommendations to the FTZ Board.

Public comment is invited from interested parties. Submissions shall be addressed to the FTZ Board's Executive Secretary at the address below. The closing period for their receipt is March 7, 2016. Rebuttal comments in response to material submitted during the foregoing period may be submitted during the subsequent 15-day period to March 21, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: January 20, 2016.
Andrew McGilvray,
Executive Secretary.

[FR Doc. 2016-01575 Filed 1-25-16; 8:45 am]

BILLING CODE 3510-DS-P